NATIONAL SCIENCE FOUNDATION

Agency Information Collection Activities: Submission for OMB Review; Comment Request

AGENCY: National Science Foundation.

ACTION: Notice and request for comments.

SUMMARY: The National Science Foundation (NSF) will be submitting the following information collection requirement to Office of Management and Budget (OMB) for review and clearance under the paperwork Reduction Act of 1995, Public Law 104-13 (44 U.S.C. 3501 et seq.). This is the second notice for public comment; the first was published in the Federal Register at 79 FR 29220 and no comments were received. NSF is forwarding the proposed renewal submission to the OMB for clearance simultaneously with the publication of this second notice. The full submission may be found at http://www.reginfo.gov/public/do/PRASearch.

Comments: Comments are invited on (a) whether the proposed collection of information is necessary for the proper performance of the functions of the Foundation, including whether the information will have practical utility; b) the accuracy of the Foundation's estimate of the burden of the proposed collection of information; (c) ways to enhance the quality, utility, and clarity of the information to be collected; and (d) ways to minimize the burden of the collection of information on those who are to respond, including through the use of automated collection techniques or other forms of information technology should be addressed to: Office of Information and Regulatory Affairs of OMB, Attention: Desk Officer for National Science Foundation, 725—17th Street NW., Room 10235, Washington, DC 20503, and to Ms. Suzanne H. Plimpton, Reports Clearance Officer, National Science Foundation, 4201 Wilson Boulevard, Suite 1265, Arlington, Virginia 22230; telephone (703) 292-7556; or send email to splimpto@nsf.gov. Individuals who use a telecommunications device for the deaf (TDD) may call the Federal Information Relay Service (FIRS) at 1-800-877-8339 between 8 a.m. and 8 p.m., Eastern time, Monday through Friday. Comments regarding these information collections are best assured of having their full effect if received within 30 days of this notification.

NSF may not conduct or sponsor a collection of information unless the collection of information displays a currently valid OMB control number and the agency informs potential persons who are to respond to the collection of information that such persons are not required to respond to the collection of information unless it displays a currently valid OMB control number.

SUPPLEMENTARY INFORMATION: Title: Survey of Graduate Students and Postdoctorates in Science and Engineering.

OMB Approval Number: 3145-0062.

Summary of Collection: The Survey of Graduate Students and Postdoctorates in Science and Engineering (GSS), sponsored by the NSF and the National Institutes of Health (NIH), is a census of all institutions with post-baccalaureate programs in science, engineering and health fields in the United States. The GSS is the only national survey that collects information on specific characteristics of graduate enrollment for science, engineering and health disciplines at the department level. It also collects information on race and ethnicity, citizenship, gender, sources of support, mechanisms of support, and enrollment status for graduate students; information on postdoctoral appointees (postdocs) by citizenship, sex, sources of support, type and origin of doctoral degree; and information on other doctorate-holding non-faculty researchers. To improve coverage of postdocs, the GSS periodically collects information on the race and ethnicity, sex, citizenship, source of support, field of research for the postdocs employed in Federally Funded Research and Development Centers (FFRDCs). The survey will be collected in conformance with the National Science Foundation Act of 1950, as amended, and the Privacy Act of 1974. Responses from the institutions are voluntary.

The Federal government, universities, researchers, and others use the information extensively. The NSF and the NIH publish statistics from the survey in several reports, but primarily in the data tables, and the congressionally mandated biennial publication series, “Science and Engineering Indicators” and “Women, Minorities and Persons with Disabilities in Science and Engineering.” In addition, survey results will be used for research or statistical purposes, analyzing data, and preparing scientific reports and articles. All tables and reports are made available in various electronic formats on the GSS Web site (http://www.nsf.gov/statistics/srvygradpostdoc/). The survey results are also available in the Web-based Computer-Aided Science Policy Analysis and Research (WebCASPAR) database system. The URL for WebCASPAR is https://ncsesdata.nsf.gov/webcaspar/. A public release file is also made available on the GSS Web site (http://www.nsf.gov/statistics/srvygradpostdoc/).

Description of Respondents: Institutions.

Number of Respondents: 14,065.

Frequency of Responses: Annually.

Total Burden Hours: 35,760.

Dated: July 30, 2014.
Suzanne H. Plimpton,
Reports Clearance Officer, National Science Foundation.

[FR Doc. 2014-18316 Filed 8-1-14; 8:45 am]

BILLING CODE 7555-01-P